ENVIRONMENTAL PROTECTION AGENCY

40 CFR Part 180

[OPP-2002-0019; FRL-6834-1]

RIN 2070-AB17

Acephate, Amitraz, Carbaryl, Chlorpyrifos, Cryolite, et al.; Proposed Revocation of Tolerances

AGENCY: Environmental Protection Agency (EPA).

ACTION: Proposed rule.

SUMMARY: This document proposes to revoke certain tolerances for residues of the pesticides acephate, amitraz, carbaryl, chlorpyrifos, cryolite, disulfoton, ethalfluralin, ethion, ethoprop, fenthion, fluvalinate, methamidophos, metribuzin, oxamyl, phorate, phosalone, phosmet, pirimiphos-methyl, profenofos, propiconazole, tetrachlorvinphos, thiram, and tribufos because these specific tolerances are either no longer needed or are associated with food uses that are no longer current or registered in the United States. The regulatory actions proposed in this document are part of the Agency's reregistration program under the Federal Insecticide, Fungicide, and Rodenticide Act (FIFRA), and the tolerance reassessment requirements of the Federal Food, Drug, and Cosmetic Act (FFDCA) section 408(q), as amended by the Food Quality Protection Act (FQPA) of 1996. By law, EPA is required by August 2002 to reassess 66% of the tolerances in existence on August 2, 1996, or about 6,400 tolerances. The regulatory actions in this document pertain to the proposed revocation of 153 tolerances. Because seven tolerances were previously reassessed, 146 tolerances would be counted as reassessed. Also, EPA is announcing that six goat and sheep tolerances at 0 ppm for amitraz are considered to be reassessed. Therefore, a total of 152 tolerance reassessments would be counted among tolerance/exemption reassessments made toward the August 2002 review deadline.

DATES: Comments, identified by docket control number OPP-2002-0019, must be received on or before June 14, 2002.

ADDRESSES: Comments may be submitted by mail, electronically, or in person. Please follow the detailed instructions for each method as provided in Unit I. of the SUPPLEMENTARY INFORMATION. To ensure proper receipt by EPA, it is imperative that you identify docket control number OPP-2002-0019 in the subject line on the first page of your response.

FOR FURTHER INFORMATION CONTACT: By mail: Joseph Nevola, Special Review and Reregistration Division (7508C), Office of Pesticide Programs, Environmental Protection Agency, 1200 Pennsylvania Ave, NW., Washington, DC 20460; telephone number: (703) 308-8037; e-mail address: nevola.joseph@epa.gov.

SUPPLEMENTARY INFORMATION:

I. General Information

A. Does this Action Apply to Me?

You may be affected by this action if you are an agricultural producer, food manufacturer, or pesticide manufacturer. Potentially affected categories and entities may include, but are not limited to:

Categories | NAICS Codes | Examples of Potentially Affected Entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations, ” “Regulations and Proposed Rules,” and then look up the entry for this document under the “Federal Register—Environmental Documents.” You can also go directly to the Federal Register listings at http://www.epa.gov/fedrgstr/. A frequently updated electronic version of 40 CFR part 180 is available at http://www.access.gpo.gov/nara/cfr/cfrhtml_00/Title_40/40cfr180_00.html, a beta site currently under development.

2. In person. The Agency has established an official record for this action under docket control number OPP-2002-0019. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-2002-0019 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described in this unit. Do not submit any information electronically that you consider to be CBI. Electronic comments must be submitted as an ASCII file avoiding use of special characters and any form of encryption. Comments and data will also be accepted on standard disks in WordPerfect 6.1/8.0 or ASCII file format. All comments in electronic form must be identified by docket control number OPP-2002-0019. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the proposed rule or collection activity.

7. Make sure to submit your comments by the deadline in this document.

8. To ensure proper receipt by EPA, be sure to identify the docket control number assigned to this action in the subject line on the first page of your response. You may also provide the name, date, and Federal Register citation.

F. What Can I Do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f) if needed. The order would specify data needed and the time frames for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke certain tolerances for residues of the pesticides acephate, amitraz, carbaryl, chlorpyrifos, cryolite, disulfoton, ethalfluralin, ethion, ethoprop, fenthion, fluvalinate, methamidophos, metribuzin, oxamyl, phorate, phosalone, phosmet, pirimiphos-methyl, profenofos, propiconazole, tetrachlorvinphos, thiram, and tribufos because these specific tolerances correspond to uses no longer current or registered under FIFRA in the United States. It is EPA's general practice to propose revocation of those tolerances for residues of pesticide active ingredients on crop uses for which there are no active registrations under FIFRA, unless any person in comments on the proposal indicates a need for the tolerance to cover residues in or on imported commodities or domestic commodities legally treated. Also, some of the proposed revocations in this document are in accordance with the recommendations made during the Reregistration Eligibility Decision (RED), Interim Reregistration Eligibility Decision (IRED), or Report on FQPA Tolerance Reassessment Progress (TRED) process and for which documents are available in the OPP Public Regulatory Docket under the appropriate control number. Also, RED, IRED, or TRED documents are available as described in Unit II.B.

In addition, EPA plans to update tolerance commodity terminology to conform to current Agency practice and expects to revise commodity terminology for all tolerances found within 40 CFR Part 180 in other future Federal Register publications, the first of which may be published soon after this proposed rule. Therefore, some or all of the commodity terminology revisions described in this proposed rule may be addressed in the Federal Register before a final rule for this proposal is published in the Federal Register.

1. Acephate. On September 28, 2001, EPA issued an IRED for acephate which recommended that certain tolerances should be revoked (docket control numbers OPP-34164 and OPP-34164B). Previously, on April 17, 1998 (63 FR 19254) (FRL-5782-6), July 8, 1998 (63 FR 36897) (FRL-5797-1), July 22, 1998 (63 FR 39287) (FRL-5799-9), and January 27, 1999 (64 FR 4099) (FRL-6051-8), EPA published notices in the Federal Register under section 6(f)(1) of FIFRA announcing its receipt of requests from registrants to cancel or amend certain product registrations and delete certain acephate uses, including the grass pasture and rangeland use for acephate. EPA approved the registrants' requests for voluntary cancellation of those specific product registrations and deletion of certain uses, including the use for grass (pasture and rangeland), and allowed a period of 18 months (in the 1998 notices) and 12 months (in the 1999 notice) for registrants to sell and distribute those specific existing stocks affected. The Agency believes that end users had sufficient time (at least 18 months beyond the endpoint for sale and distribution by registrants) to exhaust those existing stocks and for treated commodities to have cleared the channels of trade. Therefore, EPA is proposing to revoke the tolerances in 40 CFR 180.108 for combined residues of acephate and its cholinesterase-inhibiting metabolite O,S-dimethylphosphura-midothioate in or on grass (pasture and range) and grass hay because no active registrations exist which cover those commodities.

2. Amitraz. Prior to enactment of the FQPA in August 1996, EPA issued a RED for amitraz, approved in March 1995, which identified uses not being supported and recommended revocation of the tolerances for apples; horses, fat; horses, mbyp; and horses, meat. Apple and horse commodity tolerances are currently codified in 40 CFR 180.287 at 0 ppm; i.e., no finite tolerance is established for apple and horse commodities for amitraz. There is currently no registered use of amitraz on apples or horse commodities and those commodities are not identified as registered uses for amitraz in the 1995 RED or in the Product and Residue Chemistry Chapter, completed on September 17, 1993. The historical regulatory file for amitraz does not show any registered products that were associated with either apple or horse commodity uses; i.e., no product cancellations or use deletions from labels were completed or need to be completed. Because the tolerances are no longer needed, the Agency is proposing to revoke the tolerances in 40 CFR 180.287 for residues of amitraz and its metabolites in or on apples; horses, fat; horses, mbyp; and horses, meat. EPA believes that sufficient time has passed for the possiblity of any stocks to have been exhausted and for the possibility of any treated commodities to have cleared channels of trade.

Also, according to the 1993 Product and Residue Chemistry Chapter and 1995 RED, the Agency had received a petition to accommodate dermal use of amitraz that was pending in regard to revision in the levels of established goat and sheep tolerances at 0 ppm in 40 CFR 180.287. Currently, those six tolerances for goats, fat; goats, mbyp; goats, meat; sheep, fat; sheep, mbyp; and sheep, meat are at 0 ppm. EPA has been able to identify no past or current registrations of amitraz for use on goat or sheep commodities. However, due to the pending petition, EPA is not proposing revocation of those six tolerances at this time. EPA believes that there is no risk of exposure to amitraz under these tolerances because the tolerance permits no amount of the pesticide chemical to remain on the raw agricultural commodity when it is offered for shipment; and therefore, the tolerances present a reasonable certainty of no harm to human health. In accordance with FQPA, the Agency considers those six goat and sheep tolerances at 0 ppm to be reassessed.

In addition, the Agency is proposing to revise commodity terminology in 40 CFR 180.287 to conform to current Agency practice as follows: “beeswax” to “honeycomb” and “hops, dried” to “hop, dried cones.”

3. Carbaryl. In the U.S., there are no current uses of the insecticide carbaryl in or on cotton, forage; barley; oats; or rye. The Agency approved the registrant's requests for voluntary amendment of various carbaryl product labels to delete use on oats and rye in 1996, barley in 1997, and cotton forage in 1999. Therefore, EPA is proposing to revoke the tolerances in 40 CFR 180.169 for residues of carbaryl, including its hydrolysis product 1-naphthol, calculated as 1-naphthyl N-methylcarbamate in or on barley, grain; barley, green fodder; barley, straw; cotton, forage; oats, fodder, green; oats, grain; oats, straw; rye, fodder, green; rye, grain; and rye, straw. The Agency believes that sufficient time has passed for stocks to have been exhausted and for treated commodities to have cleared channels of trade.

4. Chlorpyrifos. Because beans, lima, forage; beans, snap, forage; sorghum milling fractions (sorghum flour is used exclusively in the U.S. as a component for drywall, not as either a human or animal feed item); bean, forage; and pea forage are no longer considered to be significant feed items; the tolerances are no longer needed. Therefore, EPA is proposing to revoke the tolerances in 40 CFR 180.342(a)(1) for beans, lima, forage; beans, snap, forage; and sorghum milling fractions and in 40 CFR 180.342(a)(2) for bean, forage and pea forage.

On September 28, 2001, EPA issued an IRED for chlorpyrifos which recommended that certain tolerances should be revoked (docket control numbers OPP-34203 and OPP-34203C). In response to the chlorpyrifos IRED, the Interregional Research Project No. 4 (IR-4) Center for Minor Crop Pest Management notified the Agency that they are supporting and developing data for chlorpyrifos tolerances for blueberries in 40 CFR 180.342(a)(1), leeks in 40 CFR 180.342(c)(1), and cherimoya, feijoa (pineapple guava), and sapote in 40 CFR 180.342(c)(2). Therefore, those tolerances will not be proposed for revocation at this time.

The historical regulatory file for chlorpyrifos does not identify registered products that were associated with uses on caneberries, dates, mushrooms, seed and pod vegetables, and sugarcane; i.e., no product cancellations or use deletions from labels need to be completed. EPA believes these uses were canceled years ago and sufficient time has passed for stocks to have been exhausted and for treated commodities to have cleared the channels of trade. Because there are currently no current registered uses for combined residues of chlorpyrifos and its metabolite 3,5,6-trichloro-2-pyridinol on dates, mushrooms, and seed and pod vegetables; and for residues of chlorpyrifos on caneberries and sugarcane, EPA is proposing to revoke the tolerances for mushrooms and seed and pod vegetables in 40 CFR 180.342(a)(1), caneberries and sugarcane in 40 CFR 180.342(a)(2), and dates in 180.342(c)(1).

In addition, the Agency is proposing to revise commodity terminology to conform to current Agency practice as follows: in 40 CFR 180.342(a)(1) “beans, lima” to “bean, lima” “beans, snap” to “bean, snap, succulent”; “beets, sugar, molasses” to “beet, sugar, molasses”; “onions (dry bulb)” to “onion, dry bulb”; “peppers” to “pepper,” “sorghum, fodder” to “sorghum, grain, stover,” “sorghum, grain” to “sorghum, grain, grain”; “sunflower, seeds” to “sunflower, seed”; in 40 CFR 180.342(a)(2) “nectarines” to “nectarine”; “peaches” to “peach”; “strawberries” to “strawberry”; “sweet potatoes” to “sweet potato”; and in 40 CFR 180.342(c)(1) “grapes” to “grape”; and “leeks” to “leek.”

5. Cryolite. The registrant(s) of cryolite requested voluntary cancellation for use on beets, radishes, rutabagas, and turnips. Rutabagas were removed from cryolite labels prior to 1988. Beets were removed from cryolite labels in 1988. Radishes and turnips were removed from cryolite labels in 1996. In June 1996, the cryolite RED recommended that the tolerances for beets, roots; radish, roots, rutabaga, roots; and turnip, roots be revoked because the registrant intended to request voluntary cancellation. On September 25, 1996 (61 FR 50294) (FRL-5394-2), a FIFRA section 6(f)(1) notice of receipt of a request to voluntarily delete radish and turnip uses from cryolite registrations was published in the Federal Register, with a use deletion date of December 24, 1996. Accordingly, the Agency is proposing to revoke tolerances in 40 CFR 180.145 for residues of fluorine compounds cryolite and synthetic cryolite (sodium aluminum fluoride) in or on beets, roots; radish, roots; rutabaga, roots; and turnip, roots. EPA believes that sufficient time has passed for stocks to have been exhausted and for treated commodities to have cleared the channels of trade.

6. Disulfoton. On June 4, 1997 (62 FR 30578) (FRL-5715-8), EPA published a notice in the Federal Register under section 6(f)(1) of FIFRA announcing its receipt of requests for amendments to delete disulfoton uses for pineapples, rice, and sugar beets. EPA approved the request, effective December 1, 1997, and allowed the registrants to sell or distribute products under the previously approved labeling for 18 months (June 1, 1999). More than 2½ years has passed, which the Agency believes to be sufficient time for exhaustion of those stocks and for treated commodities to have cleared channels of trade. Because no active registrations exist for use of disulfoton in or on those commodities, EPA is proposing to revoke the tolerances in 40 CFR 180.183(a)(1) for residues of disulfoton and its cholinesterase-inhibiting metabolites in or on beets, sugar, roots; beets, sugar, tops; pineapples; rice; and rice, straw; and the tolerances in 40 CFR 180.183(a)(2) for residues of disulfoton, calculated as demeton, in dehydrated sugar beet pulp and in pineapple bran.

The commodity “beans, vines” is no longer considered to be a significant animal feed item and the tolerance is no longer needed. Therefore, EPA is proposing to revoke the tolerance for beans, vines in 40 CFR 180.183.

On February 7, 2001 (66 FR 9317) (FRL-6765-9), EPA published a notice in the Federal Register under section 6(f)(1) of FIFRA announcing its receipt of requests for amendments to delete disulfoton uses for corn, oats, and pecans. EPA approved the request, effective March 9, 2001, and allowed the registrants to sell or distribute product under the previously approved labeling for 18 months (ending September 9, 2002). EPA believes that those stocks should be exhausted within 12 months of that date (September 9, 2003). Because no active registrations exist for the use of disulfoton in or on those commodities, EPA is proposing to revoke the tolerances in 40 CFR 180.183(a)(1) for the combined residues of disulfoton and its cholinesterase-inhibiting metabolites, calculated as demeton, in or on corn, field, fodder; corn, field, forage; corn, grain; corn, pop; corn, pop, fodder; corn, pop, forage; corn, sweet, fodder; corn, sweet, forage; corn, sweet, grain (K+CWHR); oats, fodder, green; oats, grain; oats, straw; and pecans with an expiration, revocation date of December 9, 2003. The Agency believes that this revocation date permits users to exhaust stocks and allows sufficient time for passage of treated commodities through the channels of trade.

In addition, EPA is proposing to revise commodity terminology in 40 CFR 180.183(a) to conform to current Agency practice as follows: “beans, dry” to “bean, dry;” “beans, lima” to “bean, lima”; “coffee beans” to “coffee, bean”; “corn, field, fodder” to “corn, field, stover”; “corn, pop, fodder” to “corn, pop, stover”; “corn, sweet, fodder” to “corn, sweet, stover”; “cottonseed” to “cotton, undelinted seed”; “hops” to “hop, dried cones”; “oats, grain” to “oat, grain”; “oats, straw” to “oat, straw”; “peanuts” to “peanut”; “peas” to “pea”; “peas, vines” to “pea, field, vines”; “pecans” to “pecan”; “peppers” to “pepper”; “potatoes” to “potato”; “sorghum, fodder” to “sorghum, grain, stover”; “sorghum, forage” to “sorghum, forage, forage;” “sorghum, grain” to “sorghum, grain, grain”; “soybeans” to “soybean”; “soybeans, forage” to “soybean, forage”; “soybeans, hay” to “soybean, hay”; “tomatoes” to “tomato”; and “wheat, fodder, green” to “wheat, hay.”

7. Ethalfluralin. When EPA establishes tolerances for residues in or on raw agricultural commodities, consideration must be given to the possible residues of those pesticides in meat, milk, poultry, and/or eggs produced by animals that are fed agricultural products (for example, grain or hay) containing pesticide residues (40 CFR 180.6). When considering this possibility, EPA can conclude that: (1) Finite residues will exist in meat, milk, poultry, and/or eggs; (2) there is a reasonable expectation that finite residues will exist; or (3) there is a reasonable expectation that finite residues will not exist. In 1994, the ethalfluralin RED recommended revocation for egg, milk, fat, meat, and meat byproduct tolerances based on animal metabolism data (submitted since the time that the tolerances were originally established) from which EPA concluded that there is no reasonable expectation of finite residues for meat, fat, and meat byproduct commodities and the associated tolerances are not required according to 40 CFR 180.6(a)(3). Those feeding studies used exaggerated amounts of the pesticide and did not show measurable residues in animal tissues. Since the ethalfluralin RED, completed prior to the implementation of the FQPA, the Agency has reviewed the regulatory conclusions in the RED and determined in a memorandum January 3, 2002, that for egg, milk, fat, meat, and meat byproduct commodities there is no reasonable expectation of finite residues and the egg, milk, fat, meat, and meat byproduct tolerances for ethalfluralin are no longer needed and are not required according to 40 CFR 180.6(a)(3). Therefore, the Agency is proposing to revoke the tolerances in 40 CFR 180.416 for residues of ethalfluralin in or on goats, fat; goats, meat; and goats, mbyp. A copy of the Agency's January 3, 2002 memorandum will be placed in the docket.

8. Ethion. On January 14, 1998 (63 FR 2163) (FRL-5755-9), EPA consolidated certain food and feed additive tolerance regulations in 40 CFR parts 185 and 186 to part 180, including the raisins and tea, dried tolerances for ethion from 40 CFR 185.2750 into 40 CFR 180.173. On February 5, 1998 (63 FR 5907) (FRL-5743-9), the Agency proposed to revoke the tolerances for raisins and tea, dried in 40 CFR 180.173. The Agency did not receive any comment on the proposed revocation of these two tolerances. However, on October 26, 1998 (63 FR 57067) (FRL-6035-6), EPA published a final rule in the Federal Register which inadvertently did not remove the raisins and tea, dried tolerances from the table of entries found in 40 CFR 180.173. To correct the error, the Agency now is proposing to revoke the tolerance for raisins and tea, dried in 40 CFR 180.173 with an effective date that is 90 days after publication of a final rule in the Federal Register.

On August 24, 29, and 31, 2001, Micro-Flo Corporation, FMC Corporation, and Cheminova A/S, respectively, signed a Memorandum of Agreement with EPA requesting voluntary cancellation of all their registrations for products containing ethion. On September 26, 2001 (66 FR 49182) (FRL-6805-5), EPA published a notice in the Federal Register under section 6(f)(1) of FIFRA announcing its receipt of requests for registration cancellations. On March 22, 2002 (67 FR 13327) (FRL-6829-5), EPA published a cancellation order in the Federal Register which approved the registrants' requests for voluntary cancellation of ethion registrations. As a result of the voluntary cancellation, the Agency is prohibiting sale and distribution of existing stocks of ethion manufacturing use products after October 1, 2003, and is prohibiting the production of any product after December 31, 2003. Also, the Agency is prohibiting the sale and distribution of end-use products after October 1, 2004, and is prohibiting the use of end-use products after December 31, 2004. Therefore, with the exception of the tolerances for raisins and dried tea, described in the preceding paragraph, the Agency is proposing to revoke all tolerances in 40 CFR 180.173 for residues of ethion including its oxygen analog (S-[[diethoxyphosphinothioyl)thio]methyl] O,O-diethyl phosphorothioate) with an expiration/revocation date of March 31, 2005. The Agency believes that this date allows sufficient time for any ethion-treated food commodities to pass through the channels of trade.

9. Ethoprop. A regional tolerance was established in 1987 for ethoprop use on okra. However, EPA's report on Quantitative Usage Analysis for ethoprop shows the usage status on okra as not available or insufficient for quantitation between 1987 and 1996. There is currently no registered use of ethoprop on okra. EPA has been able to identify no past registration of ethoprop for use on okra and believes that the use was canceled years ago. Therefore, EPA is proposing to revoke the tolerance for okra in 40 CFR 180.262(c). The Agency believes that sufficient time has passed for stocks to have been exhausted and for treated commodities to have cleared the channels of trade.

10. Fenthion. In the IRED for fenthion issued in December 2000, EPA published its interim decision on tolerance reassessment for fenthion (docket control number OPP-34145). The IRED addressed risks from exposure to fenthion-treated livestock food items. However, the registrant requested voluntary cancellation of all of the food-use product registrations for fenthion. On October 16, 2000 (65 FR 61161) (FRL-6747-5), EPA published a notice in the Federal Register under section 6(f)(1) of FIFRA announcing its receipt of these requests. The Agency approved the registrants' requests for a phased voluntary cancellation of fenthion registrations. In accordance with the IRED, the cancellation of products associated with the swine use had a cancellation date of October 2000 and permitted the registrant to sell and distribute existing stocks until October 2001. The products associated with cattle use had a cancellation date of December 31, 2000 and permitted the registrant to sell and distribute existing stocks until December 31, 2001. The Agency believes that end users will exhaust existing stocks of fenthion by December 31, 2002. EPA is proposing to revoke the tolerances in 40 CFR 180.214 for residues of fenthion and its cholinesterase-inhibiting metabolites in or on cattle, fat; cattle, meat; cattle (mbyp); hogs, fat; hogs, meat; hogs (mbyp); and milk with an expiration/revocation date of April 1, 2003 to allow sufficient time for treated commodities to pass through channels of trade. Also, EPA is proposing to revise commodity terminology in 40 CFR 180.214 to conform to current Agency practice as follows: “cattle (mbyp)” to “cattle, meat byproducts”; “hogs, fat” to “hog, fat”; “hogs, meat” to “hog, meat”; and “hogs (mbyp)” to “hog, meat byproducts.”

11. Fluvalinate. With the exception of honey, which is linked to the active registration for use in/on beehives, there are no active food-use registrations for the insecticide fluvalinate. The use of fluvalinate on cotton was voluntarily canceled in 1991. Cotton had been the only feed use for fluvalinate; therefore, the animal commodity tolerances are no longer needed. EPA believes that sufficient time has passed for exhaustion of those stocks and for treated commodities to have cleared channels of trade. Therefore, with the exception of honey, EPA is proposing to revoke the tolerances in 40 CFR 180.427(a) for residues of fluvalinate in or on cattle, fat; cattle, mbyp; cattle, meat; cottonseed; cottonseed hulls; cottonseed oil (crude and refined); eggs; goat, fat; goat, mbyp; goat, meat; hogs, fat; hogs, mbyp; hogs, meat; horses, fat; horses, mbyp; horses, meat; milk; poultry, fat; poultry, mbyp; poultry, meat; sheep, fat; sheep, mbyp; and sheep, meat.

Also, a tolerance for coffee was established in 1989 based on a FIFRA section 24(c) registration and use of fluvalinate on coffee was restricted to Hawaii. In May 1990, the registration was canceled. Therefore, the Agency is proposing to revoke the tolerance in 40 CFR 180.427(c) for residues of fluvalinate in or on coffee.

12. Methamidophos. On July 2, 1997 (62 FR 35812) (FRL-5724-7), EPA published a notice in the Federal Register under section 6(f)(1) of FIFRA announcing its receipt of requests from the registrants to terminate the use of methamidophos on all crops except cotton and potatoes, and to cancel all methamidophos 24(c) food-use registrations not labeled for use on tomatoes only, and provided a period for public comment. On December 23, 1997 (62 FR 67071) (FRL-5764-2), EPA published a notice in which the Agency responded to comments received and approved those terminations and cancellations, effective December 31, 1997. The Agency determined that after December 31, 1997, only persons other than the registrants were allowed to sell and distribute existing stocks, which EPA believed at that time to be relatively small. More than 4 years has passed, which the Agency believes to be sufficient time for exhaustion of those stocks and for treated commodities to have cleared channels of trade. EPA now proposes to revoke the tolerances in 40 CFR 180.315(a) for residues of methamidophos in or on beets, sugar, roots; beets, sugar, tops; broccoli; Brussels sprouts; cabbage; cauliflower; and lettuce. Because a petition submitted by the registrant to the Agency for use on peppers regarding a FIFRA section 24(c) registration is pending and because of the possibility that existing labels for 24(c) registrations may not yet have been amended regarding deletion of cucumbers, eggplant, and melons, the Agency will not address cucumbers, eggplant, melons, and peppers at this time. However, EPA is proposing to revise commodity terminology in 40 CFR 180.315 to conform to current Agency practice as follows: “cucumbers” to “cucumber”; “melons” to “melon”; and “peppers” to “pepper.” In addition, the Agency is proposing in 40 CFR 180.315 to revise “cottonseed” to “cotton, undelinted seed”; “potatoes” to “potato” and “tomatoes” to “tomato.”

13. Metribuzin. The Agency is proposing to revoke the tolerance in 40 CFR 180.332 for residues of metribuzin and its triazinone metabolites in or on potato waste, processed (dried). Because potato waste, processed (dried) is no longer considered a significant feed item, the tolerance is no longer needed. EPA issued a RED for metribuzin, approved on May 20, 1997, but the potato waste, processed (dried) tolerance was since identified not to be a significant feed item.

14. Oxamyl. Because peanut, forage; pineapples, forage; and soybean straw commodities are no longer considered to be significant feed items, the associated tolerances are no longer needed. Therefore, EPA is proposing to revoke the tolerances in 40 CFR 180.303 for the sum of the residues of the insecticide oxamyl (methylN-N-dimethyl-N-[(methylcarbamoyl)-oxy]-1-thiooxamimidate) and its oxime metabolite N,N-dimethyl-N-hydroxy-1-thiooxamimidate calculated as oxamyl in or on peanut, forage; pineapples, forage; and soybean straw. These proposed revocations are consistent with recommendations found in the IRED for oxamyl issued on September 30, 2000 (docket control numbers OPP-34230 and OPP-34236).

15. Phorate. Because these commodities are no longer considered significant livestock feed items and therefore the associated tolerances are no longer needed, EPA is proposing to revoke the tolerances in 40 CFR 180.206 for combined residues of phorate and its cholinesterase-inhibiting metabolites in or on beans, vines and peanuts, vines.

In FY 2000, EPA published an IRED for phorate which recommended that certain tolerances, including the tolerances for peanut hay and dried sugar beet pulp, should be revoked (docket control numbers OPP-34137 and OPP-34137B). Because a feeding restriction exists against the feeding of treated peanut hay on current product labels, the tolerance is no longer needed, and therefore the Agency is proposing to revoke the tolerance in 40 CFR 180.206 for peanuts, hay. In addition, sufficient sugar beet processing data are available that indicate phorate residues of concern do not concentrate in dried sugar beet pulp. Therefore, that tolerance is no longer needed and EPA is proposing to revoke the tolerance in 40 CFR 180.206 for sugar beet, dried pulp.

16. Phosalone. In 1986, 1987, and 1991, registrations for phosalone use on almonds were canceled. In response to a proposal by the Agency (63 FR 3057, January 21, 1998) (FRL-5743-8) to revoke plant and animal commodity tolerances for phosalone, the registrant requested that the Agency not revoke certain tolerances, including almonds, for importation purposes only. On January 22, 1999 (64 FR 3427) (FRL-6044-2), a correction of the final rule (63 FR 57062, October 26, 1998) (FRL-6035-8) was published in the Federal Register and announced that EPA had revoked the tolerance for “nuts,” but since almonds had been covered by that tolerance, the Agency would establish a tolerance for almonds. However, the tolerance for “almond, hulls” is not needed for import purposes. In January 2001, EPA published a TRED and Interim Risk Management Decision for phosalone which recommended that the tolerance for almond hulls, a livestock feed item, be revoked because phosalone has no U.S. registrations and almond hulls are not imported, nor do countries with registered uses for phosalone on almonds export significant quantities of livestock commodities to the U.S. (docket control numbers OPP-34216 and OPP-34216A). To implement that recommendation found in the IRED, EPA is proposing to revoke the tolerance in 40 CFR 180.263 for residues of phosalone in or on almond, hulls.

17. Phosmet. On October 30, 2001 EPA issued an IRED for phosmet which recommended that certain tolerances should be revoked (docket control numbers OPP-34173 and OPP-34173B). Therefore, EPA is proposing to revoke the tolerances in 40 CFR 180.261 for the sum of the residues for N-(mercaptomethyl) phthalimide S-(O,O-dimethyl phosphorodithioate) and its oxygen analog N-(mercaptomethyl) phthalimide S-(O,O-dimethyl phosphorothioate) in or on corn, fresh (inc. sweet K+CWHR); corn, fodder; corn, forage; and corn, grain because no active registrations exist which cover those commodities. Previously, on April 17, 1996 (61 FR 16779) (FRL-5360-5), EPA published a notice in the Federal Register under section 6(f)(1) of FIFRA announcing its receipt of requests from the registrant to delete certain product label uses, including the corn use for phosmet. EPA approved the registrant's request for an amendment to delete the corn use from its label effective July 16, 1996, and allowed the registrant to sell and distribute affected existing stocks for 18 months; i.e., until January 16, 1998. EPA believes that end users have now had sufficient time (more than 4 years) to exhaust those stocks and for treated commodities to have cleared channels of trade.

18. Pirimiphos-methyl. In 2001, EPA published an IRED for pirimiphos-methyl which recommended that certain tolerances should be revoked (docket control numbers OPP-34168, OPP-34168A, and OPP-34168B). Results from ruminant and poultry feeding studies (and residue trials conducted on stored grains) indicated that residues in certain livestock commodities could be classified under 40 CFR 180.6(a)(3); i.e., there is no reasonable expectation of finite residues. Therefore, the tolerances are no longer needed. Accordingly, the Agency is proposing to revoke the tolerances in 40 CFR 180.409(a)(1) for combined residues of pirimiphos-methyl, O-[2-diethylamino-6-methyl-4-pyrimidinyl) O,O-dimethyl phosphorothioate, the metabolite O-[2-ethylamino-6-methyl-pyrimidin-4-yl) O,O-dimethyl phosphorothioate and, in free and conjugated form, the metabolites 2-diethylamino-6-methyl-pyrimidin-4-ol), 2-ethylamino-6-methyl-pyrimidin-4-ol, and 2-amino-6-methyl-pyrimidin-4-ol in or on cattle, meat; eggs; goats, meat; hogs, meat; horses, meat; milk, fat (0.1 ppm (N) in whole milk); poultry, mbyp; poultry, meat; and sheep, meat.

Also, processing studies indicated that residues did not concentrate in either refined corn oil or in the milling fractions of corn and sorghum. Therefore, the Agency is proposing to revoke the tolerances in 40 CFR 180.409(a)(2) for corn milling fractions (except flour); corn oil; and sorghum milling fractions (except flour). For reassessment counting purposes, the tolerances for both corn and sorghum milling fractions will each count as two to reflect the two tolerances (formerly in 40 CFR 185.4950 and 186.4950) that had existed on August 3, 1996, when FQPA was enacted.

In addition, EPA is proposing to revise commodity terminology in 40 CFR 180.409 to conform to current Agency practice as follows: “cattle, mbyp” to “cattle, meat byproducts”; “goats, fat” to “goat, fat”; “goats, mbyp” to “goat, meat byproducts”; “hogs, fat” to “hog, fat”; “hogs, mbyp” to “hog, meat byproducts”; “horses, fat” to “horse, fat”; “horses, mbyp” to “horse, meat byproducts”; “sheep, mbyp” to “sheep, meat byproducts”; and “sorghum, grain” to “sorghum, grain, grain.”

19. Profenofos. In August 2000, EPA published an IRED for profenofos which recommended that certain tolerances should be revoked (docket control numbers OPP-34138 and OPP-34138B). EPA concluded that there is no reasonable expectation of finite residues for hog commodities (meat, fat, and meat byproducts) for profenofos based on feeding studies. The associated tolerances are not required according to 40 CFR 180.6(a)(3) and can be revoked. Therefore, the Agency is proposing to revoke the tolerances in 40 CFR 180.404 for hogs, fat; hogs, mbyp; and hogs, meat.

Also, EPA is proposing to revoke the tolerance in 40 CFR 180.404 for cottonseed hulls because the tolerance is no longer needed, based on a cottonseed processing study for cottonseed treated with profenofos. The data show that after application of an average concentration factor of 1.4X for cottonseed hulls to the highest average field trial value, the expected average level of profenofos per se, the compound of toxicological concern, is covered by the current tolerance for the raw agricultural commodity, cottonseed, at 3.0 ppm (as well as the interim reassessed tolerance for cottonseed at 2.0 ppm).

20. Propiconazole. EPA is proposing to revoke the tolerance in 40 CFR 180.434 for grass, seed screenings because that commodity is no longer considered a significant feed item and therefore the tolerance is no longer needed. Also, because a tolerance for stonefruit group at 1.0 ppm already exists for the combined residues of propiconazole and its metabolites determined as 2,4-dichlorobenzoic acid (expressed as parent compound) in 40 CFR 180.434, the EPA believes that each of the individual tolerances in 40 CFR 180.434 at 1.0 ppm for apricots, nectarines, peaches, plums, and prunes, fresh are unnecessary duplicates and therefore is proposing to remove them. The use of propiconazole on those commodities will be covered by the remaining group tolerance. For reassessment counting purposes, the Agency will not count removal of those fruit tolerances as reassessments in a final rule because the use will remain covered by the existing “stonefruit group” tolerance. In addition, EPA is proposing to revise the commodity terminology in 40 CFR 180.434 to conform to current Agency practice as follows: “bananas” to “banana”; “eggs” to “egg”; “goats, fat” to “goat, fat;” “grass, hay (straw)” to “grass, hay”; “hogs, fat” to “hog, fat”; “mushrooms” to “mushroom”; “oats, forage” to “oat, forage”; “oats, straw” to “oat, straw”; and “stonefruit group” to “fruit, stone, group 12.”

21. Tetrachlorvinphos. There are no active registrations for use of tetrachlorvinphos in or on alfalfa. All registered uses of tetrachlorvinphos on food or feed plant commodities, including alfalfa, were canceled in 1987. In June 1995, EPA had issued a RED for tetrachlorvinphos which recommended revoking the tolerances for “alfalfa” and “sheep, fat” because there were no registered uses associated with those commodities. On August 27, 1997 (62 FR 45416) (FRL-5737-4), EPA published the registrant's request for voluntary cancellation for the remaining tetrachlorvinphos product that could have had the sheep use. EPA believes that end users have now had sufficient time to exhaust those stocks and for treated commodities to have cleared channels of trade. Therefore, because there are no active registrations, the Agency is proposing to revoke tolerances in 40 CFR 180.252(a) for residues of tetrachlorvinphos in or on alfalfa and sheep, fat.

22. Thiram. On November 6, 1996 (61 FR 57419) (FRL-5570-5), EPA published a notice in the Federal Register under section 6(f)(1) of FIFRA announcing its receipt of requests for amendments to delete certain uses, including bananas, celery, onions (dry bulb), and tomatoes from the thiram technical label, effective February 4, 1997. EPA allowed a period of 18 months for the registrant to sell or distribute product under previously approved labeling. Now, the Agency believes that end users have had sufficient time to exhaust product under the previously approved labeling and for treated commodities to have cleared channels of trade. Therefore, the Agency is proposing to revoke the tolerances in 40 CFR 180.132 for celery, onions (dry bulb), tomatoes, and “bananas (from preharvest and postharvest application) of which not more than 1 part per million shall be in the pulp after peel is removed and discarded.” For tolerance reassessment counting purposes, the EPA will count bananas as two tolerances (banana, with peel, pre- and post-harvest at 7.0 ppm and banana, pulp at 1.0 ppm). In addition, EPA is proposing to revise commodity terminology in 40 CFR 180.132 to conform to current Agency practice as follows: “apples” to “apple,” “peaches” to “peach,” and “strawberries” to “strawberry.”

23. Tribufos. On September 28, 2000, EPA issued an IRED for tribufos which recommended a tolerance that should be revoked (docket control numbers OPP-34148 and OPP-34148A). The Agency is proposing to revoke the tolerance in 40 CFR 180.272 for residues of tribufos (S,S,S-tributyl phosphorotrithioate) in or on cottonseed hulls because the tolerance is no longer needed, based on a cottonseed processing study, which showed that while residues of tribufos in cottonseed had been present, no concentration of tribufos residues occurred during normal processing procedures in cottonseed meal, hulls, crude and refined oils.

B. What is the Agency's Authority for Taking this Action?

A “tolerance“ represents the maximum level for residues of pesticide chemicals legally allowed in or on raw agricultural commodities and processed foods. Section 408 of FFDCA, 21 U.S.C. 301 et seq., as amended by the FQPA of 1996, Public Law 104-170, authorizes the establishment of tolerances, exemptions from tolerance requirements, modifications in tolerances, and revocation of tolerances for residues of pesticide chemicals in or on raw agricultural commodities and processed foods (21 U.S.C. 346(a)). Without a tolerance or exemption, food containing pesticide residues is considered to be unsafe and therefore “adulterated“ under section 402(a) of the FFDCA. Such food may not be distributed in interstate commerce (21 U.S.C. 331(a) and 342(a)). For a food-use pesticide to be sold and distributed, the pesticide must not only have appropriate tolerances under the FFDCA, but also must be registered under FIFRA (7 U.S.C. et seq.). Food-use pesticides not registered in the United States must have tolerances in order for commodities treated with those pesticides to be imported into the United States.

EPA is proposing certain tolerances for revocation that are in accordance with the recommendations made during the RED, IRED, or TRED process for specific pesticides. Printed copies of the REDs, IREDs, and TREDs may be obtained from EPA's National Service Center for Environmental Publications (EPA/NSCEP), P.O. Box 42419, Cincinnati, OH 45242-2419, telephone: 1-800-490-9198; fax: 513-489-8695 and from the National Technical Information Service (NTIS), 5285 Port Royal Road, Springfield, VA 22161; telephone: 1-800-553-6847 or 703-605-6000. Electronic copies of REDs, IREDs, and TREDs are available on the internet at http://www.epa.gov/pesticides/reregistration/status.htm.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of the FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances and commits to the data needed to support them. Through this proposed rule, the Agency is inviting individuals who need these import tolerances to identify themselves and the tolerances that are needed to cover imported commodities.

Parties interested in retention of the tolerances should be aware that additional data may be needed to support retention of the tolerances. Under FFDCA section 408(f), if the Agency determines that additional information is reasonably required to support the continuation of a tolerance, EPA may require that parties interested in maintaining the tolerances provide the necessary information. If the requisite information is not submitted, EPA may issue an order revoking the tolerance at issue.

C. When Do These Actions Become Effective?

For the rule, the proposed revocations will affect tolerances for uses which have been canceled, in some cases, for many years. With the exception of certain tolerances for disulfoton, ethion, and fenthion for which EPA is proposing specific expiration/revocation dates, the Agency is proposing that these revocations become effective 90 days following publication of a final rule in the Federal Register. EPA is proposing to delay the effectiveness of those revocations for 90 days following publication of a final rule to ensure that all affected parties receive notice of EPA's actions. With the exception of disulfoton, ethion, and fenthion, the Agency believes that existing stocks of pesticide products labeled for the uses associated with the tolerances proposed for revocation have been completely exhausted and that treated commodities have cleared the channels of trade. EPA is proposing an expiration/revocation date of December 9, 2003 for 13 specific disulfoton tolerances, March 31, 2005 for 18 specific ethion tolerances, and April 1, 2003 for 7 specific fenthion tolerances. The Agency believes that those revocation dates allow users to exhaust stocks and allows sufficient time for passage of treated commodities through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to FFDCA section 408(1)(5), as established by FQPA. Under this section, any residues of these pesticides in or on such food shall not render the food adulterated so long as it is shown to the satisfaction of the Food and Drug Administration that: (1) The residue is present as the result of an application or use of the pesticide at a time and in a manner that was lawful under FIFRA, and (2) the residue does not exceed the level that was authorized at the time of the application or use to be present on the food under a tolerance or exemption from a tolerance. Evidence to show that food was lawfully treated may include records that verify the dates that the pesticide was applied to such food.

D. What Is the Contribution to Tolerance Reassessment?

By law, EPA is required by August 2002 to reassess 66% or about 6,400 of the tolerances in existence on August 2, 1996. EPA is also required to assess the remaining tolerances by August 2006. As of April 8, 2002, EPA has reassessed over 4,000 tolerances. This document proposes to revoke a total of 153 tolerances, four of which were previously counted as reassessed for cryolite during a registration decision action on December 5, 1997 (62 FR 64294) (FRL-5756-5), and three of which were previously counted as reassessed for ethalfluralin during a registration decision action on January 17, 2002 (67 FR 2333) (FRL-6818-6). Of the 153 tolerances, 146 tolerances would be counted toward reassessment. Also, EPA considers six goat and sheep tolerances at 0 ppm for amitraz to be reassessed. Therefore, a total of 152 tolerance reassessments would be counted when the final rule is published toward the August 2002 review deadline of FFDCA section 408(q), as amended by FQPA in 1996.

III. Are the Proposed Actions Consistent with International Obligations?

The tolerance revocations in this proposal are not discriminatory and are designed to ensure that both domestically-produced and imported foods meet the food safety standards established by the FFDCA. The same food safety standards apply to domestically produced and imported foods.

EPA is working to ensure that the U.S. tolerance reassessment program under FQPA does not disrupt international trade. EPA considers Codex Maximum Residue Limits (MRLs) in setting U.S. tolerances and in reassessing them. MRLs are established by the Codex Committee on Pesticide Residues, a committee within the Codex Alimentarius Commission, an international organization formed to promote the coordination of international food standards. It is EPA's policy to harmonize U.S. tolerances with Codex MRLs to the extent possible, provided that the MRLs achieve the level of protection required under FFDCA. EPA's effort to harmonize with Codex MRLs is summarized in the tolerance reassessment section of individual RED documents. EPA has developed guidance concerning submissions for import tolerance support (65 FR 35069, June 1, 2000) (FRL-6559-3). This guidance will be made available to interested persons. Electronic copies are available on the internet at http://www.epa.gov/. On the Home Page select “Laws and Regulations,” then select “Regulations and Proposed Rules” and then look up the entry for this document under “Federal Register—Environmental Documents.” You can also go directly to the “Federal Register” listings at http://www.epa.gov/fedrgstr/.

IV. Regulatory Assessment Requirements

In this proposed rule, EPA is proposing to revoke specific tolerances established under FFDCA section 408. The Office of Management and Budget (OMB) has exempted this type of action (i.e., a tolerance revocation for which extraordinary circumstances do not exist) from review under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq. , or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether revocations of tolerances might significantly impact a substantial number of small entities and concluded that, as a general matter, these actions do not impose a significant economic impact on a substantial number of small entities. This analysis was published on December 17, 1997 (62 FR 66020), and was provided to the Chief Counsel for Advocacy of the Small Business Administration. Taking into account this analysis, and available information concerning the pesticides listed in this rule, I certify that this action will not have a significant economic impact on a substantial number of small entities. Specifically, as per the 1997 notice, EPA has reviewed its available data on imports and foreign pesticide usage and concludes that there is a reasonable international supply of food not treated with canceled pesticides. Furthermore, for the pesticides named in this proposed rule, the Agency knows of no extraordinary circumstances that exist as to the present proposed revocations that would change EPA's previous analysis. Any comments about the Agency's determination should be submitted to EPA along with comments on the proposal, and will be addressed prior to issuing a final rule.

In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of FFDCA section 408(n)(4). For these same reasons, the Agency has determined that this proposed rule does not have any “tribal implications” as described in Executive Order 13175, entitled Consultation and Coordination with Indian Tribal Governments (65 FR 67249, November 6, 2000). Executive Order 13175, requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.” This proposed rule will not have substantial direct effects on tribal governments, on the relationship between the Federal government and Indian tribes, or on the distribution of power and responsibilities between the Federal government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: April 9, 2002.
Marcia E. Mulkey,
Director, Office of Pesticide Programs.

Therefore, it is proposed that 40 CFR part 180 be amended as follows:

PART 180—[AMENDED]

1. The authority citation for part 180 continues to read as follows:

Authority: 21 U.S.C. 321(q), 346(a) and 371.

§ 180.108 [Amended]

2. Section 180.108 is amended by removing the entries for “Grass (pasture & range)” and “Grass hay” from the table in paragraph (a)(1).

3. Section 180.132 is revised to read as follows:

§ 180.132 Thiram; tolerances for residues.

(a) General. Tolerances for residues of the fungicide thiram (tetramethyl thiuram disulfide) in or on raw agricultural commodities are established as follows:

Commodity | Parts per million
Apple | 7.0
Peach | 7.0
Strawberry | 7.0

(b) Section 18 emergency exemptions. [Reserved]

(c) Tolerances with regional registrations. [Reserved]

(d) Indirect or inadvertent residues. [Reserved]

§ 180.145 [Amended]

4. Section 180.145 is amended by removing the entries for “Beets, roots”; “Radish, roots”; “Rutabaga, roots”; and “Turnip, roots” from the table in paragraph (a)(1).

§ 180.169 [Amended]

5. Section 180.169 is amended by removing the entries for “Barley, grain”; “Barley, green fodder”; “Barley, straw”; “Cotton, forage”; “Oats, fodder, green”; “Oats, grain”; “Oats, straw”; “Rye, fodder, green”; “Rye, grain”; and “Rye, straw” from the table in paragraph (a)(1).

6. Section 180.173 is amended by revising the table in paragraph (a) to read as follows:

§ 180.173 Ethion; tolerances for residues.

(a) General. * * *

Commodity | Parts per million | Expiration/Revocation Date
Cattle, fat | 0.2 | 3/31/05
Cattle, meat (fat basis) | 0.2 | 3/31/05
Cattle, meat byproducts | 0.2 | 3/31/05
Citrus, dried pulp | 25.0 | 3/31/05
Fruit, citrus | 5.0 | 3/31/05
Goat, fat | 0.2 | 3/31/05
Goat, meat | 0.2 | 3/31/05
Goat, meat byproducts | 0.2 | 3/31/05
Hog, fat | 0.2 | 3/31/05
Hog, meat | 0.2 | 3/31/05
Hog, meat byproducts | 0.2 | 3/31/05
Horse, fat | 0.2 | 3/31/05
Horse, meat | 0.2 | 3/31/05
Horse, meat byproducts | 0.2 | 3/31/05
Milk fat (reflecting (N) residues in milk) | 0.5 | 3/31/05
Sheep, fat | 0.2 | 3/31/05
Sheep, meat | 0.2 | 3/31/05
Sheep, meat byproducts | 0.2 | 3/31/05

* * * * *

7. Section 180.183 is amended by revising paragraph (a) to read as follows:

§ 180.183 O,O-Diethyl S-[2-(ethylthio)ethyl] phosphorodithioate; tolerances for residues.

(a) General. Tolerances are established for the combined residues of the insecticide O,O-diethyl S-[2-(ethylthio)ethyl] phosphorodithioate and its cholinesterase-inhibiting metabolites, calculated as demeton, in or on the following raw agricultural commodities:

Commodity | Parts per million | Expiration/Revocation Date
Barley, grain | 0.75 | None
Barley, straw | 5.0 | None
Bean, dry | 0.75 | None
Bean, lima | 0.75 | None
Beans, snap | 0.75 | None
Broccoli | 0.75 | None
Brussels sprouts | 0.75 | None
Cabbage | 0.75 | None
Cauliflower | 0.75 | None
Coffee, bean | 0.3 | None
Corn, field, forage | 5.0 | 12/9/03
Corn, field, stover | 5.0 | 12/9/03
Corn, grain | 0.3 | 12/9/03
Corn, pop | 0.3 | 12/9/03
Corn, pop, forage | 5.0 | 12/9/03
Corn, pop, stover | 5.0 | 12/9/03
Corn, sweet, forage | 5.0 | 12/9/03
Corn, sweet, stover | 5.0 | 12/9/03
Corn, sweet, grain (K+CWHR) | 0.3 | 12/9/03
Cotton, undelinted seed | 0.75 | None
Hop, dried cones | 0.5 | None
Lettuce | 0.75 | None
Oats, fodder, green | 5.0 | 12/9/03
Oat, grain | 0.75 | 12/9/03
Oat, straw | 5.0 | 12/9/03
Peanut | 0.75 | None
Pea | 0.75 | None
Pea, field, vines | 5.0 | None
Pecan | 0.75 | 12/9/03
Pepper | 0.1 | None
Potato | 0.75 | None
Sorghum, grain, stover | 5.0 | None
Sorghum, forage, forage | 5.0 | None
Sorghum, grain, grain | 0.75 | None
Soybean | 0.1 | None
Soybean, forage | 0.25 | None
Soybean, hay | 0.25 | None
Spinach | 0.75 | None
Sugarcane | 0.3 | None
Tomato | 0.75 | None
Wheat, hay | 5.0 | None
Wheat, grain | 0.3 | None
Wheat, straw | 5.0 | None

* * * * *

§ 180.206 [Amended]

8. Section 180.206 is amended by removing the entries for “Beans, vines”; “Peanuts, hay”; “Peanuts, vines”; and “Sugar beet, dried pulp” from the table in paragraph (a).

9. Section 180.214 is amended by revising the table in paragraph (a) to read as follows:

§ 180.214 Fenthion; tolerances for residues.

(a) General. * * *

Commodity | Parts per million | Expiration/Revocation Date
Cattle, fat | 0.1 | 4/1/03
Cattle, meat | 0.1 | 4/1/03
Cattle, meat byproducts | 0.1 | 4/1/03
Hog, fat | 0.1 | 4/1/03
Hog, meat | 0.1 | 4/1/03
Hog, meat byproducts | 0.1 | 4/1/03
Milk | 0.01 | 4/1/03

* * * * *

§ 180.252 [Amended]

10. Section 180.252 is amended by removing from the table in paragraph (a)(1) the entries for “Alfalfa” and “Sheep, fat.”

§ 180.261 [Amended]

11. Section 180.261 is amended by removing from the table in paragraph (a) the entries for “Corn, fresh (inc. sweet K+CWHR)”; “Corn, fodder”; “Corn, forage”; and “Corn, grain.”

12. Section 180.262 is amended by removing the text of paragraph (c) and reserving paragraph (c) with a heading to read as follows:

§ 180.262 Ethoprop; tolerances for residues.

* * * * *

(c) Tolerances with regional registrations. [Reserved]

* * * * *

§ 180.263 [Amended]

13. Section 180.263 is amended by removing the entry for “Almond, hulls” from the table.

§ 180.272 [Amended]

14. Section 180.272 is amended by removing from the table in paragraph (a) the entry for “Cottonseed, hulls.”

15. Section 180.287 is amended as follows:

a. By redesignating the existing text as paragraph (a) and adding a paragraph heading.

b. By removing the entries from the table in newly designated paragraph (a) for “Apples”; “Beeswax”; “Hops, dried”; “Horses, fat”; “Horses, mbyp”; and “Horses meat.”

c. By alphabetically adding entries for “Honeycomb” and “Hop, dried cones” to the table in newly designated paragraph (a).

d. By adding and reserving with headings paragraphs (b), (c), and (d).

§ 180.287 Amitraz; tolerances for residues.

(a) General. * * *

Commodity | Parts per million
* * * * *
Honeycomb | 6.0
Hop, dried cones | 60.0
* * * * *

(b) Section 18 emergency exemptions. [Reserved]

(c) Tolerances with regional registrations. [Reserved]

(d) Indirect or inadvertent residues. [Reserved]

§ 180.303 [Amended]

16. Section 180.303 is amended by removing from the table in paragraph (a)(1) the entries for “Peanut, forage”; “Pineapples, forage”; and “Soybean straw.”

17. Section 180.315 is amended by revising the table in paragraph (a) to read as follows:

§ 180.315 Methamidophos; tolerances for residues.

(a) General. * * *

Commodity | Parts per million
Cotton, undelinted seed | 0.1
Cucumber | 1.0
Eggplant | 1.0
Melon | 0.5
Pepper | 1.0
Potato | 0.1
Tomato | 1.0

* * * * *

§ 180.332 [Amended]

18. Section 180.332 is amended by removing from the table in paragraph (a) the entry for “Potato waste, processed (dried).”

19. Section 180.342 is amended as follows:

a. By removing the entries for “Beans, lima, forage”; “Beans, snap forage”; “Mushrooms”; “Seed and pod vegetables” and “Sorghum milling fractions” from the table in paragraph (a)(1).

b. By changing “Beans, lima” to “Bean, lima” “Beans, snap” to “Bean, snap, succulent”; “Beets, sugar, molasses” to “Beet, sugar, molasses”; “Onions (dry bulb)” to “Onion, dry bulb”; “Peppers” to “Pepper,” “Sorghum, fodder” to “Sorghum, grain, stover,” “Sorghum, grain” to “Sorghum, grain, grain”; “Sunflower, seeds” to “Sunflower, seed” in the table in paragraph (a)(1).

c. By removing the entries for “Bean, forage”; “Caneberries”; “Pea forage”; and “Sugarcane” from the table in paragraph (a)(2).

d. By changing “Nectarines” to “Nectarine”; “Peaches” to “Peach”; “Strawberries” to “Strawberry”; and “Sweet potatoes” to “Sweet potato” in the table in paragraph (a)(2).

e. By revising paragraph (c)(1).

§ 180.342 Chlorpyrifos; tolerances for residues.

* * * * *

(c)Tolerances with regional registrations. (1) Tolerances with regional registration, as defined in § 180.1(n), are established for the combined residues of chlorpyrifos and its metabolite 3,5,6-trichloro-2-pyridinol in or on the following food commodities:

Commodity | Parts per million
Asparagus | 5.0
Grape | 0.5
Leek (of which no more than 0.2 ppm is chlorpyrifos) | 0.5

* * * * *

§ 180.404 [Amended]

20. Section 180.404 is amended by removing the entries for “Cottonseed hulls”; “Hogs, fat”; “Hogs, mbyp”; and “Hogs, meat” from the table in paragraph (a).

21. Section 180.409 is amended by revising the table in paragraph (a)(1); removing paragraph (a)(2); and redesignating paragraph (a)(3) as paragraph (a)(2) to read as follows:

§ 180.409 Pirimiphos-methyl; tolerances for residues.

(a) General. (1) * * *

Commodity | Parts per million
Corn | 8.0
Cattle, fat | 0.2
Cattle, kidney and liver | 2.0
Cattle, meat byproducts | 0.2
Goat, fat | 0.2
Goat, kidney, and liver | 2.0
Goat, meat byproducts | 0.2
Hog, fat | 0.2
Hog, kidney and liver | 2.0
Hog, meat byproducts | 0.2
Horse, fat | 0.2
Horse, kidney and liver | 2.0
Horse, meat byproducts | 0.2
Kiwifruit | 5.0
Poultry, fat | 0.2
Sheep, fat | 0.2
Sheep, kidney and liver | 2.0
Sheep, meat byproducts | 0.2
Sorghum, grain, grain | 8.0

* * * * *

§ 180.416 [Amended]

22. Section 180.416 is amended by removing the entries for “Goats, fat”; “Goats, meat”; and “Goats, mbyp” from the table in paragraph (a).

23. Section 180.427 is amended by revising the table in paragraph (a); removing the text in paragraph (c); and reserving paragraph (c) with a heading to read as follows:

§ 180.427 Fluvalinate; tolerances for residues.

(a) General. * * *

Commodity | Parts per million
Honey | 0.05

* * * * *

(c) Tolerances with regional registration. [Reserved]

* * * * *

§ 180.434 [Amended]

24. Section 180.434 is amended by revising the table in paragraph (a) as follows:

a. By removing the entries for “Apricots,” “Grass, seed screenings” “Nectarines,” “Peaches,” “Plums,” and “Prunes, fresh.”

b. By changing “Bananas” to “Banana”; “Eggs” to “Egg”; “Goats, fat” to “Goat, fat;” “Grass, hay (straw)” to “Grass, hay”; “Hogs, fat” to “Hog, fat”; “Mushrooms” to “Mushroom”; “Oats, forage” to “Oat, forage”; and “Oats, straw” to “Oat, straw.”

c. By changing “Stonefruit group” to “Fruit, stone, group 12” and realphabetizing the entry.

[FR Doc. 02-9070 Filed 4-12-02; 8:45 am]

BILLING CODE 6560-50-S